SECURITIES AND EXCHANGE COMMISSION

[File No. 500-1]

eConnect; Order of Suspension of Trading

March 13, 2000.

It appears to the Securities and Exchange Commission that there is a lack of current, adequate and accurate information concerning the securities of eConnect, a Nevada corporation. Questions have been raised about the adequacy and accuracy of publicly disseminated information concerning, among other things, a purported licensing agreement with Palm, Inc., a strategic alliance with a registered broker-dealer and certain Internet referrals and revenue.

The Commission is of the opinion that the public interest and the protection of investors require a suspension of trading in the securities of the above-listed company.

Therefore, it is ordered, pursuant to Section 12(k) of the Securities Exchange Act of 1934, that trading in the above listed company is suspended for the period from 9:30 a.m. EST, March 13, 2000, through 11:59 p.m. EST, on March 24, 2000.

By the Commission.
Johnathan G. Katz,
Secretary.

[FR Doc. 00-6507 Filed 3-13-00; 12:02 pm]

BILLING CODE 8010-N-M